DEPARTMENT OF LABOR

Employment and Training Administration

[TA-W-65,513]

Tyrone Mining, LLC, Tyrone, NM; Notice of Termination of Investigation

Pursuant to Section 221 of the Trade Act of 1974, as amended, an investigation was initiated on March 6, 2009 in response to a worker petition filed on behalf of the workers of Tyrone Mining, LLC, Tyrone, New Mexico.

The petitioners have requested that the petition be withdrawn. Consequently, the investigation has been terminated.

Signed at Washington, DC, this 15th day of April 2009.
Richard Church,
Certifying Officer, Division of Trade Adjustment Assistance.

[FR Doc. E9-10911 Filed 5-8-09; 8:45 am]

BILLING CODE 4510-FN-P